FEDERAL HOUSING FINANCE BOARD

Sunshine Act Meeting Notice; Announcing a Partially Open Meeting of the Board of Directors

Time and Date: The open meeting of the Board of Directors is scheduled to begin at 10 a.m. on Wednesday, August 10, 2005. The closed portion of the meeting will follow immediately the open portion of the meeting.

Place: Board Room, First Floor, Federal Housing Finance Board, 1625 Eye Street NW., Washington, DC 20006.

Status: The first portion of the meeting will be open to the public. The final portion of the meeting will be closed to the public.

Matter To Be Considered at the Open Portion: Data Reporting Requirements for the Membership Database. Through the Membership Database, the Federal Home Loan Banks (Banks) electronically submit to the Finance Board certain status and financial information on Bank members on a monthly and quarterly basis. The Board of Directors will consider a resolution adopting the current staff requirements for submission of this information.

Matter To Be Considered at the Closed Portion: Periodic Update of Examination Program Development and Supervisory Findings.

Contact Person for More Information: Janice A. Kaye, Senior Attorney-Advisor, Office of General Counsel, at 202-408-2505 or kayej@fhfb.gov.

By the Federal Housing Finance Board.
Dated: August 3, 2005.
John P. Kennedy,
General Counsel.

[FR Doc. 05-15719 Filed 8-4-05; 12:34 p.m.]

BILLING CODE 6725-01-P